DEPARTMENT OF THE INTERIOR

National Park Service

[NPS-WASO-NRNHL-14587; PPWOCRADI0, PCU00RP14.R50000]

National Register of Historic Places; Notification of Pending Nominations and Related Actions

Nominations for the following properties being considered for listing or related actions in the National Register were received by the National Park Service before November 23, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 8, 2014. Before including your address, phone number, email address, or other personal identifying information in your comment, you should be aware that your entire comment—including your personal identifying information—may be made publicly available at any time. While you can ask us in your comment to withhold your personal identifying information from public review, we cannot guarantee that we will be able to do so.

Dated: December 2, 2013.
J. Paul Loether,
Chief, National Register of Historic Places/National Historic Landmarks Program.

Alabama

Dallas County

Jackson, Sullivan & Richie Jean, House, (Civil Rights Movement in Selma, Alabama MPS) 1416 Lapsley Ave., Selma, 13001033

California

Alameda County

University Art Museum, 2626 Bancroft Way, Berkeley, 13001034

Colorado

Gilpin County

Winks Panorama (Boundary Increase), 213 Winks Way, Pinecliffe, 13001035

Kansas

Allen County

City Square Park Bandstand, 100 S. 9th St., Humboldt, 13001036

Douglas County

Clearfield School—District 58, (Public Schools of Kansas MPS) 2162 N. 600 Rd., Baldwin City, 13001037

University of Kansas East Historic District, Roughly bounded by Oread & Sunnyside Aves., Jayhawk Blvd., Lilac Ln., Pearson Pl., Louisiana & W. 13th Sts., Lawrence, 13001038

Upper Wakarusa River Crossing, 1180 E. 1400 Rd., Lawrence, 13001039

Marshall County

Oregon and California Trail—Pacha Ruts, Address Restricted, Bremen, 13001040

Montgomery County

Cedar Manor Farm, (Agriculture-Related Resources of Kansas MPS) 2326 Cty. Rd. 6400, Fredonia, 13001041

Pottawatomie County

Trout, George and Virginia, House, 615 Elm St., Wamego, 13001043

Riley County

Bluemont Youth Cabin, (New Deal-Era Resources of Kansas MPS) NE. of 5th & Bertrand Sts. in Goodnow Park, Manhattan, 13001044

Ingraham, Jesse, House, (Late 19th Century Vernacular Stone Houses in Manhattan, Kansas MPS) 1724 Fairchild Ave., Manhattan, 13001045

Wyandotte County

Simmons Funeral Home, 1404 S. 37th St., Kansas City, 13001046

Kentucky

Boyle County Goodall Building, (Boyle MPS) 470 Stanford Rd., Danville, 13001047

Fayette County

Southeast Greyhound Line Building, 101 W. Loudon St., Lexington, 13001048

Franklin County

Bridgeport School, 555 Bridgeport Rd., Bridgeport, 13001049

Brown—Henry House, 818 Fields Ave., Frankfort, 13001050

Point Breeze, 219 Riverview St., Frankfort, 13001051

Graves County

St. Jerome's Catholic Church Complex, 20 KY 339, 10225 KY 80 W., Fancy Farm, 13001052

Knott County

Stamper, Hiram and Art, House, 864 Stamper Branch Rd., Hindman, 13001053

Madison County

Churchill Weavers, 100 Churchill Dr., Berea, 13001054

Trimble County

Norfolk Farm Tenant Log House, Address Restricted, Bedford, 13001055

Massachusetts

Essex County

Beverly Depot—Odell Park Historic District, Roughly bounded by River, Rantoul & Pleasant Sts., Broadway, Beverly, 13001056

New York

Monroe County

Sibley's, Lindsay and Curr Building, (Inner Loop MRA; Department Store TR) 228 E. Main St., Rochester, 84003945

Suffolk County

Carrington House, Lewis Walk, Fire Island Pines, 13001057

Oregon

Clatsop County

Astoria Marine Construction Company Historic District, 92134 Front Rd., Astoria, 13001058

Rhode Island

Providence County

Mechanical Fabric Company, 55 Cromwell St., 40, 40R, 50, 50R Sprague St., Providence, 13001059

Washington

Pierce County

Point Defiance Streetcar Station, 5801 Trolley Ln., Tacoma, 13001060

Spokane County

Finch, John A., School, N. 3717 Milton St., Spokane, 13001061

Germond Block, 830 W. Sprague Ave., Spokane, 13001062

Hill—Hilscher House, 1638 S. Cedar St., Spokane, 13001063

Wyoming

Johnson County

Beaver Creek Ranch, 2333 Beaver Creek, Buffalo, 13001064

Park County

Clay Butte Lookout, Approx. ½ mi. N. of jct. of US 212 and FS Rd. 142, Clark, 13001065

A request for removal has been made for the following resource:

Kansas

Kingman County

Doney—Clark House, 817 W. Sherman St., Kingman, 94000409

[FR Doc. 2013-30588 Filed 12-23-13; 8:45 am]

BILLING CODE 4312-51-P